DEPARTMENT OF TRANSPORTATION

Federal Aviation Administration

14 CFR Part 71

[Docket No. FAA-2004-17426; Airspace Docket No. 04-ACE-26]

Modification of Class E Airspace; Minden, NE.

Correction

In rule document 04-10640 beginning on page 26034 in the issue of Tuesday, May 11, 2004, make the following corrections:

1. On page 26034, in the second column, under SUPPLEMENTARY INFORMATION, in the 17th line, “(AFP)” should read, “(ARP)”.

2. On the same page, in the third column, under the heading The Direct Final Rule Procedure, in the fourth line, “kissing” should read, “is issuing”.

§71.1 [Corrected]

3. On page 26035, in §71.1, in the second column, under the heading ACE NE E5 Minden, NE, in the eighth line, “VOOR” should read, “VOR”.

[FR Doc. C4-10640 Filed 5-26-04; 8:45 am]

BILLING CODE 1505-01-D